NUCLEAR REGULATORY COMMISSION

Working Group on Integrated Materials Performance Evaluation Program (IMPEP) Lessons Learned

AGENCY: Nuclear Regulatory Commission.

ACTION: Notice of formation of working group and public meeting.

SUMMARY: The Nuclear Regulatory (NRC) is announcing a meeting and the formation of a working group on Integrated Materials Performance Evaluation Program (IMPEP) Lessons Learned. The working group will provide recommendations to the NRC on enhancements and lessons learned to strengthen the IMPEP process. The working group is composed of representatives from the NRC and Agreement States.

DATES: The first meeting will be held on July 31-August 2, 2001, from 8 am to 5 pm.

ADDRESSES: NRC Headquarters, 11555 Rockville Pike, Room O-3-B-6, Rockville, Maryland, 20852. These meetings will be open to the public. Future meetings will be announced on the NRC public meeting web site, http://www.nrc.gov/NRC/PUBLIC/meet.html.

FOR FURTHER INFORMATION CONTACT: Kathleen Schneider, Senior Health Physicist, Office of State and Tribal Programs, U.S. Nuclear Regulatory Commission, Washington, DC, 20555-0001. Telephone: 301-415-2320; e-mail: kxs@nrc.gov.

SUPPLEMENTARY INFORMATION: In FY 1996, NRC began implementation of IMPEP in the evaluation of Agreement State and Regional materials programs to assure that public health and safety are adequately protected from the hazards associated with the use of radioactive materials and that Agreement State programs are compatible with NRC's programs. The IMPEP process employs a team of NRC and Agreement State staff to assess both Agreement State and NRC Regional Office radioactive materials licensing and inspection programs. All reviews use common criteria in the assessment and place primary emphasis on performance. Additional areas have been identified as non-common performance indicators and are also addressed in the assessment. The final determination of adequacy of each NRC Regional Office and both adequacy and compatibility of each Agreement State program, based on the review team's report, is made by a Management Review Board (MRB) composed of NRC managers and an Agreement State program manager who serves as the Agreement State liaison to the MRB.

At the end of FY1999, NRC completed its first round of IMPEP reviews for all Agreement States. Regional reviews originally were performed every 2 years and are now performed every 4 years. Agreement State reviews occur at frequencies of 2-4 years. From its inception, IMPEP has been an iterative process. As the program progressed from the pilot, through interim implementation to final implementation, NRC staff has factored in experience, comments and suggestions to enhance IMPEP. At the completion of this first cycle of reviews, NRC believes that an independent examination by a working group of the IMPEP experiences to date could further enhance this program. The working group will evaluate IMPEP experiences for additional enhancements and lessons learned to strengthen the IMPEP process.

A copy of the working group charter is available through the NRC's Agencywide Document Access and Management System (ADAMS) at http://www.nrc.gov/NRC/ADAMS/index.html, where the accession number is ML011930478. Copies may also be obtained by contacting the NRC's Public Document Room (PDR) by calling (800) 397-4209, faxing a request to (301) 415-3548, or sending a request by electronic mail to pdr@nrc.gov.

Dated at Rockville, Maryland, this 16th day of July 2001.
For the Nuclear Regulatory Commission.
Paul H. Lohaus,
Director, Office of State and Tribal Programs.

[FR Doc. 01-18175 Filed 7-19-01; 8:45 am]

BILLING CODE 7590-01-P